DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of August 28, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Las Animas County, Colorado and Incorporated Areas
Docket No.: FEMA-B-1757
City of Trinidad | City Government Office, 135 North Animas Street, Trinidad, CO 81082.
Town of Aguilar | Town Government Office, 101 West Main Street, Aguilar, CO 81020.
Town of Starkville | Mayor's Office, 8531 Pinon Street, Starkville, CO 81082.
Unincorporated Areas of Las Animas County | Las Animas County Land Use Office, 200 East 1st Street, Room 102, Trinidad, CO 81082.
Bergen County, New Jersey (All Jurisdictions)
Docket Nos.: FEMA B-1504 and B-1744
Borough of Allendale | Borough Hall, 500 West Crescent Avenue, Allendale, NJ 07401.
Borough of Bergenfield | Borough Hall, 198 North Washington Avenue, Bergenfield, NJ 07621.
Borough of Bogota | Borough Hall, 375 Larch Avenue, Bogota, NJ 07603.
Borough of Carlstadt | Borough Hall, 500 Madison Street, Carlstadt, NJ 07072.
Borough of Closter | Borough Hall, 295 Old Closter Dock Road, Closter, NJ 07624.
Borough of East Rutherford | Borough Hall, 1 Everett Place, East Rutherford, NJ 07073.
Borough of Edgewater | Borough Hall, 55 River Road, Edgewater, NJ 07020.
Borough of Elmwood Park | Municipal Building, 182 Market Street, Elmwood Park, NJ 07407.
Borough of Emerson | Borough Hall, 146 Linwood Avenue, Emerson, NJ 07630.
Borough of Fair Lawn | Borough Hall, 8-01 Fair Lawn Avenue, Fair Lawn, NJ 07410.
Borough of Fairview | Borough Hall, 59 Anderson Avenue, Fairview, NJ 07022.
Borough of Franklin Lakes | Borough Hall, 480 De Korte Drive, Franklin Lakes, NJ 07417.
Borough of Glen Rock | Municipal Building, 1 Harding Plaza, Glen Rock, NJ 07452.
Borough of Harrington Park | Borough Hall, 85 Harriot Avenue, Harrington Park, NJ 07640.
Borough of Hasbrouck Heights | Municipal Building, 320 Boulevard, Hasbrouck Heights, NJ 07604.
Borough of Haworth | Borough Hall, 300 Haworth Avenue, Haworth, NJ 07641.
Borough of Hillsdale | Borough Hall, 380 Hillsdale Avenue, Hillsdale, NJ 07642.
Borough of Ho-Ho-Kus | Borough Hall, 333 Warren Avenue, Ho-Ho-Kus, NJ 07423.
Borough of Leonia | Borough Hall, 312 Broad Avenue, Leonia, NJ 07605.
Borough of Little Ferry | Borough Hall, 215-217 Liberty Street, Little Ferry, NJ 07643.
Borough of Lodi | Borough Hall, One Memorial Drive, Lodi, NJ 07644.
Borough of Maywood | Municipal Building, 15 Park Avenue, Maywood, NJ 07607.
Borough of Montvale | Borough Hall, 12 Mercedes Drive, Montvale, NJ 07645.
Borough of Moonachie | Municipal Building, 70 Moonachie Road, Moonachie, NJ 07074.
Borough of New Milford | Borough Hall, 930 River Road, New Milford, NJ 07646.
Borough of North Arlington | Borough Hall, 214 Ridge Road, North Arlington, NJ 07031.
Borough of Northvale | Borough Hall, 116 Paris Avenue, Northvale, NJ 07647.
Borough of Norwood | Borough Hall, 455 Broadway, Norwood, NJ 07648.
Borough of Oakland | Borough Hall, One Municipal Plaza, Oakland, NJ 07436.
Borough of Old Tappan | Borough Hall, 227 Old Tappan Road, Old Tappan, NJ 07675.
Borough of Oradell | Borough Hall, 355 Kinderkamack Road, Oradell, NJ 07649.
Borough of Palisades Park | Borough Hall, 275 Broad Avenue, Palisades Park, NJ 07650.
Borough of Paramus | Borough Hall, 1 Jockish Square, Paramus, NJ 07652.
Borough of Park Ridge | Borough Hall, 53 Park Avenue, Park Ridge, NJ 07656.
Borough of Ramsey | Borough Hall, 33 North Central Avenue, Ramsey, NJ 07446.
Borough of Ridgefield | Borough Hall, 604 Broad Avenue, Ridgefield, NJ 07657.
Borough of River Edge | Borough Hall, 705 Kinderkamack Road, River Edge, NJ 07661.
Borough of Rutherford | Borough Hall, 176 Park Avenue, Rutherford, NJ 07070.
Borough of Saddle River | Borough Hall, 100 East Allendale Road, Saddle River, NJ 07458.
Borough of Tenafly | Municipal Center, 100 Riveredge Road, Tenafly, NJ 07670.
Borough of Upper Saddle River | Borough Hall, 376 West Saddle River Road, Upper Saddle River, NJ 07458.
Borough of Waldwick | Borough Hall, 63 Franklin Turnpike, Waldwick, NJ 07463.
Borough of Wallington | Municipal Building, 54 Union Boulevard, Wallington, NJ 07057.
Borough of Westwood | Borough Hall, 101 Washington Avenue, Westwood, NJ 07675.
Borough of Woodcliff Lake | Municipal Building, 188 Pascack Road, Woodcliff Lake, NJ 07677.
Borough of Wood-Ridge | Municipal Building, 85 Humboldt Street, Wood-Ridge, NJ 07075.
City of Englewood | City Hall, 2-10 North Van Brunt Street, Englewood, NJ 07631.
City of Garfield | City Hall, 111 Outwater Lane, Garfield, NJ 07026.
City of Hackensack | City Hall, 65 Central Avenue, Hackensack, NJ 07601.
New Jersey Sports and Exposition Authority | Administrative Offices, 1 DeKorte Park Plaza, Lyndhurst, NJ 07071.
Township of Lyndhurst | Town Hall, 367 Valley Brook Avenue, Lyndhurst, NJ 07071.
Township of Mahwah | Municipal Building, 475 Corporate Drive, Mahwah, NJ 07430.
Township of River Vale | Township Office, 406 Rivervale Road, River Vale, NJ 07675.
Township of Rochelle Park | Town Hall, 151 West Passaic Street, Rochelle Park, NJ 07662.
Township of Saddle Brook | Town Hall, 93 Market Street, Saddle Brook, NJ 07663.
Township of South Hackensack | Town Hall, 227 Phillips Avenue, South Hackensack, NJ 07606.
Township of Teaneck | Municipal Building, 818 Teaneck Road, Teaneck, NJ 07666.
Township of Wyckoff | Memorial Township Hall, 340 Franklin Avenue, Scott Plaza, Wyckoff, NJ 07481.
Village of Ridgefield Park | Village Hall, 232-234 Main Street, Ridgefield Park, NJ 07660.
Village of Ridgewood | Village Hall, 131 North Maple Avenue, Ridgewood, NJ 07450.
Burlington County, New Jersey (All Jurisdictions)
Docket No.: FEMA-B-1820
Township of Mount Laurel | Municipal Building, 100 Mount Laurel Road, Mount Laurel, NJ 08054.
Ashtabula County, Ohio and Incorporated Areas
Docket No.: FEMA-B-1806
City of Ashtabula | City Hall, 4717 Main Avenue, Ashtabula, OH 44004.
City of Conneaut | City Hall, 294 Main Street, Conneaut, OH 44030.
Unincorporated Areas of Ashtabula County | Building Department, 25 West Jefferson Street, Jefferson, OH 44047.
Village of Geneva-on-the-Lake | Village Hall, 4929 South Warner Drive, Geneva-on-the-Lake, OH 44041.
Village of North Kingsville | Municipal Building, 3541 East Center Street, North Kingsville, OH 44068.
Sandusky County, Ohio and Incorporated Areas
Docket No.: FEMA-B-1806
Unincorporated Areas of Sandusky County | Regional Planning Commission, 2511 Countryside Drive, Suite C, Fremont, OH 43420.

[FR Doc. 2019-11672 Filed 6-4-19; 8:45 am]

BILLING CODE 9110-12-P